DEPARTMENT OF LABOR

Employment and Training Administration

[TA-W-64,715, et al.]

Cadence Innovation, LLC, Groesbeck Plant, Including On-Site Leased Workers from Michigan Staffing, LLC, Modern Professional Services, LLC, TAC Transportation, Time Services, Inc., and Human Capital Staffing Clinton Township, MI, et al.; Amended Certification Regarding Eligibility To Apply for Worker Adjustment Assistance and Alternative Trade Adjustment Assistance

In accordance with section 223 of the Trade Act of 1974, (19 U.S.C. 2273), and section 246 the Trade Act of 1974 (26 U.S.C. 2813), as amended, the Department of Labor issued a Certification of Eligibility to Apply for Worker Adjustment Assistance and Alternative Trade Adjustment Assistance on February 6, 2009, applicable to workers of Cadence Innovation, LLC, Incorporated, including on-site leased workers from Michigan Staffing, LLC, Modern Professional Services, LLC, and TAC Transportation at the following locations: Cadence Innovation, LLC, Groesbeck Plant, Clinton Township, Michigan (TA-W-64,715); Cadence Innovation, LLC, Metrology Location, Chesterfield Township, Michigan (TA-W-TA-W-64,715A); Cadence Innovation, Chesterfield Plant, Chesterfield Township, Michigan (TA-W-64,715B); Cadence Innovation, LLC, Information Systems Technology Location, Chesterfield Township, Michigan (TA-W-64,715C); Cadence Innovation, LLC, Hillsdale Plant, Hillsdale, Michigan (TA-W-64,715D); Cadence Innovation, LLC, Hartford City Plant, Hartford City, Indiana (TA-W-64,715E); Cadence Innovation, LLC, 17400 Malyn Street Location, Fraser, Michigan (TA-W-64,715F); Cadence Innovation, LLC, 17350 Malyn Street Location, Fraser, Michigan (TA-W-64,715G); Cadence Innovation, LLC, 17300 Malyn Street, Fraser, Michigan (TA-W-64,715H); Cadence Innovation, LLC, Processing Center, Fraser, Michigan (TA-W-64,715I); and Cadence Innovation, LLC, Commerce Location, Fraser, Michigan (TA-W-64,715J). The notice was published in the Federal Register on March 3, 2009 (74 FR 9282-9283). The notice was amended on August 3, 2009 to include on-site leased workers from Time Services, Inc. The notice was published in the Federal Register on August 26, 2009 (74 FR 43158-43159).

At the request of the State agency, the Department reviewed the certification for workers of the subject firm. The workers are engaged in the production of vehicle interior systems such as instrument panels, door panels, load floors, quarter panels and consoles.

The intent of the Department's certification is to include all secondarily affected workers employed at the above mentioned locations of Cadence Innovation, LLC.

New information shows that workers leased from Human Capital Staffing were employed on-site at the above mentioned locations of Cadence Innovation, LLC. The Department has determined that these workers were sufficiently under the control of the subject firm to be considered leased workers.

Based on these findings, the Department is amending this certification to include leased workers from Human Capital Staffing working on-site at the above mentioned locations of Cadence Innovation, LLC.

The amended notice applicable to TA-W-64,715 is hereby issued as follows:

All workers of Cadence Innovation, LLC, Groesbeck Plant, Clinton Township, Michigan, including on-site leased workers from Michigan Staffing, LLC, Modern Professional Services, LLC, TAC Transportation, Time Services, Inc., and Human Capital Staffing (TA-W-64,715); Cadence Innovation, LLC, Metrology Location, Chesterfield Township, Michigan, including on-site leased workers from Michigan Staffing, LLC, Modern Professional Services, LLC, TAC Transportation Time Services, Inc., and Human Capital Staffing (TA-W-64,715A); Cadence Innovation, LLC, Chesterfield Plant, Chesterfield Township, Michigan, including on-site leased workers from Michigan Staffing, LLC, Modern Professional Services, LLC, TAC Transportation, Time Services, Inc., Human Capital Staffing (TA-W-64,715B); Cadence Innovation, LLC, Information Systems Technology Location, Chesterfield Township, Michigan, including on-site leased workers from Michigan Staffing, LLC, Modern Professional Services, LLC, TAC Transportation, Time Services, Inc., and Human Capital Staffing (TA-W-64,715C); Cadence Innovation, LLC, Hillsdale Plant, Hillsdale, Michigan, including on-site leased workers from Michigan Staffing, LLC, Modern Professional Services, LLC, TAC Transportation, Time Services, Inc., and Human Capital Staffing (TA-W-64,715D); Cadence Innovation, LLC, Hartford City Plant, Hartford City, Indiana, including on-site leased workers from Michigan Staffing, LLC, Modern Professional Services, LLC, TAC Transportation, Time Services, Inc., and Human Capital Staffing (TA-W-64,715E); Cadence Innovation, LLC, 17400 Malyn Street Location, Fraser, Michigan, including on-site leased workers from Michigan Staffing, LLC, Modern Professional Services, LLC, TAC Transportation, Time Services, Inc., and Human Capital Staffing (TA-W-64,715F); Cadence Innovation, LLC, 17350 Malyn Street Location, Fraser, Michigan, including on-site leased workers from Michigan Staffing, LLC, Modern Professional Services, LLC, TAC Transportation, Time Services, Inc., and Human Capital Staffing (TA-W-64,715G); Cadence Innovation, LLC, 17300 Malyn Street, Fraser, Michigan, including on-site leased workers from Michigan Staffing, LLC, Modern Professional Services, LLC, TAC Transportation, Time Services, Inc., and Human Capital Staffing (TA-W-64,715H); Cadence Innovation, LLC, Processing Center, Fraser, Michigan, including on-site leased workers from Michigan Staffing, LLC, Modern Professional Services, LLC, TAC Transportation, Time Services, Inc., and Human Capital Staffing (TA-W-64,715I); and Cadence Innovation, LLC, Commerce Location, Fraser, Michigan, including on-site leased workers from Michigan Staffing, LLC, Modern Professional Services, LLC, TAC Transportation, Time Services, Inc., and Human Capital Staffing (TA-W-64,715J), who became totally or partially separated from employment on or after December 15, 2007 through February 6, 2011, are eligible to apply for adjustment assistance under Section 223 of the Trade Act of 1974, and are also eligible to apply for alternative trade adjustment assistance under Section 246 of the Trade Act of 1974.

Signed at Washington, DC, this 21st day of April 2010.
Elliott S. Kushner,
Certifying Officer, Division of Trade Adjustment Assistance.

[FR Doc. 2010-9929 Filed 4-28-10; 8:45 am]

BILLING CODE 4510-FN-P\